DEPARTMENT OF ENERGY

Federal Energy Regulatory Commission

[Docket No. CP01-12-000]

El Paso Natural Gas Company; Notice of Application

October 26, 2000.

Take notice that on October 16, 2000, El Paso Natural Gas Company (El Paso), Post Office Box 1492, El Paso, Texas 79978, filed in Docket No. CP01-12-000 an application pursuant to Sections 7(c) and (b) of the Natural Gas Act for a certificate of public convenience and necessity to relocate and replace 6.88 miles of 16-inch diameter pipe on Line No. 2039 with 24-inch pipe, and to relocate the existing Southern Avenue Meter Station located in Maricopa County, Arizona. In addition, El Paso requests permission and approval to abandon the replaced 16-inch diameter Line No. 2039 facilities and four miscellaneous tap facilities currently located on Line No. 2039, all as more fully set forth in the application which is on file with the Commission and open to public inspection. This filing may be viewed on the web at http://www.ferc.fed.us./online/rims.htm (call (202) 208-2222 for assistance).

El Paso states that tremendous residential and commercial growth in the West Phoenix area and its environs has raised serious issues relating to right-of-way encroachment and Department of Transportation (DOT) compliance. In response to these issues, El Paso states that it will relocate 6.88 miles of Line No. 2039 currently located at Elliot Road and 43rd Avenue in Maricopa County, Arizona, to a location that is east of the existing route. El Paso states that the increase in residential and commercial growth in the West Phoenix area has also prompted an increased need for the delivery of natural gas from Line No. 2039. It is stated that Arizona Public Service Company (APS) has requested El Paso to deliver an additional 95 MMcf per day of natural gas to its West Phoenix Power Plant located in Maricopa County, Arizona. It is stated that in order to accommodate APS' load growth requirement, the relocated Line No. 2039 will consist of 24-inch diameter pipe instead of 16-inch diameter pipe. In addition, it is stated that El Paso will relocate the existing Southern Avenue meter Station currently located on the existing 16-inch diameter Line No. 2039 to a new location along the proposed 24-inch alignment. El Paso states that once Line No. 2039 has been relocated, replaced and in service, El Paso will abandon in place and by removal, the replaced 16-inch Line No. 2039 pipeline facilities and four miscellaneous tap facilities currently located on Line No. 2039.

El Paso states that the estimated cost of the proposed project is $6,579,988. El Paso states that the project will be financed with the use of internally generated funds and that APS has agreed to reimburse El Paso 50 percent of the cost of pipe relocation and replacement of the 6.88 miles of Line No. 2039. El Paso states that it will continue to charge its existing Part 284 rates for transportation. El Paso further states that the transportation rates to existing customers currently being served through Line No. 2039 will not change as a result of this project.

Any questions regarding the application should be directed to A.W. Clark, Vice President, El Paso Natural Gas Company at (915) 496-2600, Post Office Box 1492, El Paso, Texas 79978.

Any person desiring to be heard or to make any protest with reference to said application should on or before November 16, 2000, file with the Federal Energy Regulatory Commission, 888 First Street, N.E., Washington, D.C. 20426, a motion to intervene or a protest in accordance with the requirements of the Commission's Rules of Practice and Procedure (18 CFR 385.214 or 385.211) and the Regulations under the Natural Gas Act (18 CFR 157.10). All protests filed with the Commission will be considered by it in determining the appropriate action to take but will not serve to make the protestants parties to the proceeding. Any person wishing to become a party to a proceeding or to participate as a party in any hearing therein must file a motion to intervene in accordance with the Commission's Rules. Beginning November 1, 2000, comments and protests may be filed electronically via the internet in lieu of paper. See, 18 CFR 385.2001(a)(1)(iii) and the instructions on the Commission's web site at http://www.ferc.fed.us/efi/doorbell.htm.

Take further notice that, pursuant to the authority contained in and subject to the jurisdiction conferred upon the Federal Energy Regulatory Commission by Sections 7 and 15 of the Natural Gas Act and the Commission's Rules of Practice and Procedure, a hearing will be held without further notice before the Commission or its designee on this application if no motion to intervene is filed within the time required herein, if the Commission on its own review of the matter finds that a grant of the certificate and permission and approval for the proposed abandonment are required by the public convenience and necessity. If a motion for leave to intervene is timely filed, or if the Commission on its own motion believes that a formal hearing is required, further notice of such hearing will be duly given.

Under the procedure herein provided for, unless otherwise advised, it will be unnecessary for El Paso to appear or be represented at the hearing.

David P. Boergers,
Secretary.

[FR Doc. 00-27995 Filed 10-31-00; 8:45 am]

BILLING CODE 6717-01-M